DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

DesertXpress Enterprises, LLC

[Docket Number FRA-2010-0098]

The DesertXpress Enterprises, LLC (DXE) seeks a waiver of compliance from certain provisions of Title 49 of the CFR. Specifically, DXE is considering purchasing vehicles that are constructed to and meet European safety standards for crash-worthiness and related safety measures for use on its proposed high-speed rail corridor between Victorville, California, and Las Vegas, Nevada. DXE seeks relief from certain requirements of 49 CFR part 238, Passenger Equipment Safety Standards (§§ 238.115, 238.121, 238.435, 238.447, 238.403, 238.405, 238.407, 238.409, 238.411, 238.413, 238.417, 238.419); 49 CFR part 231, Railroad Safety Appliance Standards (§ 231.14); and 49 CFR part 229, Railroad Locomotive Safety Standards (§ 229.141).

DXE intends to design, develop, and construct an intercity high-speed passenger-only rail corridor, exclusive of freight operations, connecting Victorville, CA, and Las Vegas, NV, along a 183-mile long, double track alignment. The system will feature a high-speed train operation at speeds up to 150 mph (FRA Class 8), featuring preferred electric multiple unit (EMU) technology train-sets based upon the Regina system, which was developed by Bombardier in Sweden. Most of the alignment will run parallel to the Interstate-15 (I-15) highway corridor, making maximum use of excess freeway right of way and minimizing impact upon the largely undeveloped land alongside the highway. There will be no highway-rail grade crossings with road vehicles.

DXE is considering purchasing non-FRA compliant EMU Regina train-sets for this high-speed rail system, and is requesting this relief primarily as a result of DXE's decision to construct and operate this project as a grade-separated, passenger-only system, with no freight trains or any other dissimilar trains operating on the line and no highway-rail grade crossings. DXE asserts that an added level of safety is further provided by DXE's exclusive, grade-separated system, in combination with advanced positive train control, broken rail detection, unique highway/rail barrier protection, and use of an intrusion detection system. According to DXE, these EMU's will offer higher reliability than typical FRA-compliant equipment, higher energy efficiency due to light vehicle weight, and better performance due to power-to-weight ratio which will enable these train-sets to climb steep grades. No push-pull or locomotive-hauled trains will be used, so that in the event of a collision, only identical train-sets will be involved, thereby simplifying the design requirements for crash-worthiness.

Noting that certain provisions in 49 CFR part 231 pertaining to safety appliances are statutorily required, and therefore not subject to FRA's waiver authority, DXE also requests that FRA exercise its authority under 49 U.S.C. 20306 to exempt DXE from certain provisions of Chapter 203, Title 49 of the United States Code because the EMU Regina vehicles will be equipped with their own array of safety devices resulting in equivalent safety.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0098) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on June 25, 2010.
Michael J. Logue,
Deputy Associate Administrator for Safety Compliance and Program Implementation.

[FR Doc. 2010-16053 Filed 6-30-10; 8:45 am]

BILLING CODE 4910-06-P